GENERAL SERVICES ADMINISTRATION

[OMB Control No. 3090-0163]

Submission for OMB Review and Extension; Information Specific to a Contract or Contracting Action (Not Required By Regulation)

AGENCY: General Services Administration (GSA).

ACTION: Notice of an emergency reinstatement and request for review and extension of the reinstated collection (3090-0163).

SUMMARY: Under the provisions of the Paperwork Reduction Act of 1995 (44 U.S.C. Chapter 35, the General Services Administration's (GSA) Regulatory Secretariat requested in March 2001 that the Office of Management and Budget (OMB) reinstate an information collection that pertains to information specific to a contract or contracting action. OMB reinstated the collection on March 26, 2001. Information collected under this authority is not otherwise required by regulation. This notice indicates GSA's intent to request an extension by 3 years of OMB's emergency reinstatement of this collection and to request public review and comment on the collection.

Public comments are particularly invited on: Whether this collection of information is necessary for the proper performance of contracts, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Comments may be submitted on or before July 9, 2001.

FOR FURTHER INFORMATION CONTACT: Beverly Cromer, Acquisition Policy Division, GSA (202) 208-6750.

ADDRESSES: Comments regarding this burden estimate or any other aspect of this collection of information, including suggestions for reducing this burden, should be submitted to: Ed Springer, GSA Desk Officer, OMB, Room 10236, NEOB, Washington, DC 20503, and a copy to the General Services Administration, Regulatory Secretariat, 1800 F Street, NW., Room 4035, Washington, DC 20405.

SUPPLEMENTARY INFORMATION:

A. Purpose

The General Services Administration (GSA) has various mission responsibilities related to the acquisition and provision of supplies, transportation, ADP, telecommunications, real property management, and disposal of real and personal property. These mission responsibilities generate requirements that are realized through the solicitation and award of public contracts. Individual solicitations and resulting contracts may impose unique information collection/reporting requirements on contractors, not required by regulation, but necessary to evaluate particular program accomplishments and measure success in meeting special program objectives.

B. Annual Reporting Burden

Respondents: 126,870.

Responses Per Respondent: 1.36.

Total Responses: 172,500.

Hours Per Response: .4.

Total Burden Hours: 68,900.

Obtaining Copies of Proposals

Requester may obtain a copy of the proposal from the General Servuces Administration, Regulatory Secretariat (MVP), 1800 F Street, NW., Room 4035, Washington, DC 20405, telephone (202) 501-4755. Please cite OMB Control No. 3090-0163, Information Specific to a Contract or Contracting Action (Not Required by Regulation), in all correspondence.

David A. Drabkin,
Deputy Associate Administrator, Office of Acquisition Policy.

[FR Doc. 01-11529 Filed 5-7-01; 8:45 am]

BILLING CODE 6820-34-M